DEPARTMENT OF COMMERCE

National Oceanic and Atmospheric Administration

United States Global Change Research Program

AGENCY: The National Oceanic and Atmospheric Administration (NOAA), Department of Commerce (DOC).

ACTION: Request for public nominations.

CONTEXT: The U.S. Global Change Research Program (USGCRP) is mandated under the Global Change Research Act (GCRA) of 1990 to conduct a quadrennial National Climate Assessment (NCA). Under its current, updated decadal strategic plan (http://go.usa.gov/x9MCQ), USGCRP is building sustained assessment capacity. The sustained assessment supports the Nation's ability to understand, anticipate, and respond to risks and potential impacts brought about by global environmental change. Work on the fourth National Climate Assessment is currently underway.

SUMMARY: NOAA, on behalf of USGCRP, is soliciting nominations for Review Editors for the Fourth National Climate Assessment (NCA4). Refer to the NCA4 Outline (accessible via http://www.globalchange.gov/content/nca4-outline) for a sense of the areas of expertise we seek.

The report will adhere to the Information Quality Act requirements (http://www.cio.noaa.gov/services_programs/info_quality.html) for quality, transparency, and accessibility as appropriate for a Highly Influential Scientific Assessment (HISA).

DATES: Nominations should be submitted via the web address specified below (https://contribute.globalchange.gov/) and must be received by September 8, 2017.

ADDRESSES: Nominations for Review Editors must be submitted electronically via a Web form accessible via (https://contribute.globalchange.gov/). Nominees are asked to identify their areas of expertise based on NCA4's sectoral, regional, and response topics (see NCA4 Table of Contents below). A CV/resume of no more than 4 pages should be included for optimal consideration. There are no limitations on the nominees' place of employment.

INSTRUCTIONS: Response to this notice is voluntary. Responses to this notice may be used by the government for program planning on a non-attribution basis. NOAA therefore requests that no business proprietary information or copyrighted information be submitted in response to this notice. Please note that the U.S. Government will not pay for response preparation, or for the use of any information contained in the response.

FOR FURTHER INFORMATION CONTACT: David Reidmiller, (202) 419-3470, dreidmiller@usgcrp.gov, U.S. Global Change Research Program.

DATED: Wednesday, July 12, 2017.

Dan Barrie, Program Manager, Assessments Program, NOAA Climate Program Office.

SUPPLEMENTARY INFORMATION: Background information and additional details on NCA4 can be found at https://www.globalchange.gov/nca4.

This notice seeks nominations for Review Editors to NCA4 with pertinent subject matter expertise and scientific background. The roles of the Review Editor include: (a) Ensuring that all substantive comments submitted during the Public Comment Period and via a National Academies panel review (both currently scheduled for Autumn 2017-Winter 2018) are appropriately addressed, (b) advising Chapter Leads how to handle contentious issues, and (c) ensuring that significant scientific uncertainties are reflected adequately in the text of NCA4. Review Editors do not provide additional comments on assigned draft chapters; rather, they ensure each and every comment has been considered by the author team, and that the `annotation' (i.e., written responses to comments) is responsive to the comment and indicates any revision made to the chapter(s), including the scientific or logical rationale for said action.

Potential nominees should be accomplished scientists and/or science communicators with climate-related proficiency in at least one of the regions, sectors, or responses topics outlined in the NCA4 Outline, (described below in the Appendix and accessible via http://www.globalchange.gov/content/nca4-outline). Nominees must have demonstrated technical expertise such that the nominees could contribute to the development of a robust scientific, technical assessment as subject matter experts in one or more of the topics listed in the outline.

Responses to this request for nominations for Review Editors must be submitted by September 8, 2017. Users can access the nominations form via (https://contribute.globalchange.gov/). Interested persons may nominate themselves or third parties, and may nominate more than one person. Each nomination must include: (1) The nominee's full name, title, institutional affiliation, and contact information; (2) the desired chapter(s) the nominee wishes to serve as Review Editor on (i.e., area(s) of expertise); and (3) a short description of his/her qualifications relative to contributing to the report. Nominees are encouraged to submit a CV of no more than 4 pages for optimal consideration.

More information on the function of Review Editors, the tasks (including reporting) expected of them, as well as the tentative dates of commitment can be found at https://contribute.globalchange.gov.

Appendix: NCA4 Outline

I: Overview

II: Our Changing Climate

III: National-level Sectoral Overview Chapters

Water

Energy

Land Cover and Land Use Change

Forests

Ecosystems, Ecosystem Services, and Biodiversity

Coastal Effects

Oceans and Marine Resources

Agriculture and Rural Communities

Built Environment, Urban Systems, and Cities

Transportation

Air Quality

Human Health

Tribal and Indigenous Communities

Climate Effects on US International Interests

Sectoral Interdependencies and Compounding Stressors: The Science of Complex Systems

IV: Regional Analyses

Northeast

Southeast

US Caribbean

Midwest

Northern Great Plains

Southern Great Plains

Northwest

Southwest

Alaska

Hawai`i and Pacific Islands

V: Response

Near-Term Adaptation Needs and Increased Resiliency

Mitigation: Avoiding and Reducing Long-Term Risks

Dated: July 12, 2017.
David Holst,
Acting Chief Financial Officer/CAO, Office of Oceanic and Atmospheric Research, National Oceanic and Atmospheric Administration.

[FR Doc. 2017-15235 Filed 7-19-17; 8:45 am]

BILLING CODE P